GOVERNMENT ACCOUNTABILITY OFFICE

Comptroller General's Advisory Council on Standards for Internal Control in the Federal Government; Notice of Meeting

AGENCY: U.S. Government Accountability Office.

ACTION: Notice of meeting.

SUMMARY: The U.S. Government Accountability Office (GAO) is revising the Standards for Internal Control in the Federal Government, known as the Green Book. As part of the revision process, GAO will hold a meeting of the Comptroller General's Advisory Council on Standards for Internal Control in the Federal Government (Advisory Council) on Wednesday, October 30, 2024, from 10:00 a.m. to 1:00 p.m. to provide input and recommendations on revisions to the Green Book. The purpose of this meeting is to discuss proposed revisions as a result of comments received on the June 2024 Green Book Exposure Draft. The meeting will be virtual and is open to the public.

DATES: The meeting will be held on Wednesday, October 30, 2024, from 10 a.m. to 1 p.m.

ADDRESSES: The meeting will be virtual only.

FOR FURTHER INFORMATION CONTACT: For further information on the meeting or the Green Book, please contact Carrie Morrison, Assistant Director, Financial Management and Assurance, MorrisonC@gao.gov or (202) 512-4689. To request a reasonable accommodation (RA) for this meeting, email GAO's RA office at ReasonableAccommodations@gao.gov. Please request all accommodations at least five business days prior to the meeting (by October 23, 2024).

SUPPLEMENTARY INFORMATION: Any interested person may attend the virtual meeting as an observer. Members of the public will have an opportunity to address the Advisory Council with brief (five- minute) presentations on matters directly related to the proposed updates and revisions. Any interested person who plans to attend the virtual meeting as an observer must contact Carrie Morrison, Assistant Director, at (202) 512-4689, before October 23, 2024. The meeting agenda will be available upon request one week before the meeting.

Authority: 31 U.S.C. 3512(c), (d).

James R. Dalkin,
Director, Financial Management and Assurance, U.S. Government Accountability Office.

[FR Doc. 2024-23134 Filed 10-4-24; 8:45 am]

BILLING CODE 1610-02-P